DEPARTMENT OF TRANSPORTATION

Federal Aviation Administration

14 CFR Part 71

[Docket No. FAA-2010-0719; Airspace Docket No. 10-ANM-8]

Modification of Class E Airspace; Portland, OR

AGENCY: Federal Aviation Administration (FAA), DOT.

ACTION: Final rule.

SUMMARY: This action will modify existing Class E airspace at Portland, OR, to accommodate aircraft using the Localizer/Distance Measuring Equipment (LOC/DME) Standard Instrument Approach Procedures (SIAPs) at Portland International Airport. This will improve the safety and management of Instrument Flight Rules (IFR) operations at the airport. This action also would adjust the geographic coordinates for the airports and the Corvallis VHF Omni-Directional Radio Range/Distance Measuring Equipment (VOR/DME).

DATES: Effective date, 0901 UTC, March 10, 2011. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

On September 3, 2010, the FAA published in the Federal Register a notice of proposed rulemaking to modify controlled airspace at Portland, OR (75 FR 54057). Interested parties were invited to participate in this rulemaking effort by submitting written comments on the proposal to the FAA. No comments were received. Subsequent to publication, the FAA found the geographic coordinates for the airports and the Corvallis VOR/DME needed to be adjusted. This action makes the adjustment. With the exception of editorial changes, and the changes described above, this rule is the same as that proposed in the NPRM.

Class E airspace designations are published in paragraph 6005 of FAA Order 7400.9U dated August 18, 2010, and effective September 15, 2010, which is incorporated by reference in 14 CFR 71.1. The Class E airspace designations listed in this document will be published subsequently in that Order.

The Rule

This action amends Title 14 Code of Federal Regulations (14 CFR) Part 71 by modifying Class E airspace extending upward from 700 feet above the surface, at Portland International Airport, to accommodate IFR aircraft executing the LOC/DME SIAPs at the airport. This action is necessary for the safety and management of IFR operations. The geographic coordinates for Portland International Airport and McMinnville Municipal Airport, as well as the Corvallis VOR/DME, will be adjusted to coincide with the FAA's National Aeronautical Navigation Services.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes additional controlled airspace at Portland International Airport, Portland, OR.

List of Subjects in 14 CFR Part 71

Airspace, Incorporation by reference, Navigation (air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of the Federal Aviation Administration Order 7400.9U, Airspace Designations and Reporting Points, dated August 18, 2010, and effective September 15, 2010 is amended as follows:

Paragraph 6005 Class E airspace areas extending upward from 700 feet or more above the surface of the earth.

* * * * *

ANM OR E5 Portland, OR [Modified]

Portland International Airport, OR

(Lat. 45°35′19″ N., long. 122°35′49″ W.)

Newburg VORTAC

(Lat. 45°21′12″ N., long. 122°58′41″ W.)

Corvallis VOR/DME

(Lat. 44°29′58″ N., long. 123°17′37″ W.)

McMinnville Municipal Airport, OR

(Lat. 45°11′40″ N., long. 123°08′10″ W.)

That airspace extending upward from 700 feet above the surface within a line beginning at lat. 45°59′59″ N., long. 123°30′04″ W.; to lat. 46°00′00″ N., long. 122°13′00″ W.; thence via an 8.5-mile radius centered at lat. 45°55′07″ N., long. 122°03′02″ W. clockwise to lat. 45°46′39″ N., long. 122°04′00″ W.; thence via a line south along long. 122°04′00″ W. bounded on the south by lat. 45°09′59″ N., and on the west by long. 123°30′04″ W.; and within a 4.3-mile radius of the McMinnville Municipal Airport; and within 2 miles each side of the Newburg VORTAC 215° radial extending from lat. 45°09′59″ N., to 19.8 miles southwest of the Newburg VORTAC; that airspace extending upward from 1,200 feet above the surface bounded on the north by lat. 46°30′29″ N., extending from 2.7 miles offshore to V-25, and on the east by V-25, on the south by V-536 to Corvallis VOR/DME; thence via lat. 44°29′59″ N., to a point 2.7 miles offshore, and on the west by a line 2.7 miles offshore to the point of beginning.

Issued in Seattle, Washington, on November 17, 2010.
Christine Mellon,
Acting Manager, Operations Support Group, Western Service Center.

[FR Doc. 2010-29737 Filed 11-26-10; 8:45 am]

BILLING CODE 4910-13-P